DEPARTMENT OF THE INTERIOR

Bureau of Land Management

[OR-958-1430-ET; HAG 03-0013 WAOR-22193A, WAOR-22197]

Public Land Order No. 7551; Partial Revocation of Executive Orders Dated July 15, 1875, and June 6, 1891; Washington

AGENCY: Bureau of Land Management, Interior.

ACTION: Public land order.

SUMMARY: This order partially revokes two Executive Orders insofar as they affect approximately 209 acres of public lands reserved for use by the United States Coast Guard for Patos Light Station. The reservation is no longer needed.

EFFECTIVE DATE: January 29, 2003.

FOR FURTHER INFORMATION CONTACT: Charles R. Roy, BLM Oregon/Washington State Office, P.O. Box 2965, Portland, Oregon 97208-2965, 503-952-6189.

SUPPLEMENTARY INFORMATION: The reservation includes Patos and Little Patos Islands. The lands will remain closed to surface entry and mining due to an overlapping withdrawal. The lands have been and will remain open to mineral leasing.

Order

By virtue of the authority vested in the Secretary of the Interior by section 204 of the Federal Land Policy and Management Act of 1976, 43 U.S.C. 1714 (1994), it is ordered as follows:

The Executive Orders dated July 15, 1875, and June 6, 1891, which reserved public lands for lighthouse purposes, are hereby revoked insofar as they affect the following described lands:

Willamette Meridian

T. 38 N., R. 2 W., unsurveyed,

Secs. 15, 16, and 17.

The areas described contain approximately 209 acres in San Juan County.

Dated: January 9, 2003.
Rebecca W. Watson,
Assistant Secretary—Land and Minerals Management.

[FR Doc. 03-2047 Filed 1-28-03; 8:45 am]

BILLING CODE 4310-33-P